DEPARTMENT OF AGRICULTURE

Office of the Secretary

7 CFR Part 2

Revision of Delegations of Authority

AGENCY: Office of the Secretary, USDA.

ACTION: Final rule.

SUMMARY: This document amends the delegation of authority from the Secretary of Agriculture to the Director of the Office of Communications to serve as the central authority for the creation and use of logos/marks not otherwise provided for by specific laws and regulations, and excluding the Official USDA Seal and Official USDA Symbol.

DATES: This rule is effective October 27, 2011.

FOR FURTHER INFORMATION CONTACT: Ronald N. DeMunbrun, Office of Communications Budget Officer, (202) 360-3962.

SUPPLEMENTARY INFORMATION: This rule relates to internal agency management. Therefore, pursuant to 5 U.S.C. 553(a)(2), notice of proposed rulemaking and opportunity for comment are not required, and this rule may be made effective less than 30 days after publication in the Federal Register. Further, because this rule relates to internal agency management, it is exempt from the provisions of Executive Order No. 12866. Finally, this action is not a rule as defined by the Regulatory Flexibility Act, 5 U.S.C. 601 et seq., and is, therefore, exempt from the provisions of the Act. Accordingly, as authorized by 5 U.S.C. 808, this rule may be made effective upon publication.

This rule contains no information collection or recordkeeping requirements under the Paper Reduction Act of 1995 (44 U.S.C. 3501 et. seq).

List of Subjects in 7 CFR Part 2

Authority Delegations (Government agencies).

Accordingly, Subtitle A of Title 7 of the Code of Federal Regulations is amended as set forth below:

PART 2—DELEGATIONS OF AUTHORITY BY THE SECRETARY OF AGRICULTURE AND GENERAL OFFICERS OF THE DEPARTMENT

1. The authority citation for part 2 continues to read as follows:

Authority: 7 U.S.C. 6912(a): 5 U.S.C. 301; Reorganization Plan No. 2 of 1953, 3 CFR 1949-1953 Comp. p. 1024.

Subpart D—Delegation of Authority to Other General Officers and Agency Heads

2. Amend § 2.36 by adding a new paragraph (a)(2)(xiv), to read as follows:

§ 2.36 Director, Office of Communications.

(a) * * *

(2) * * *

(xiv) Serve as the central authority to determine policy, plans, procedures, guidelines, and standards for the creation and use of logos/marks by the Department's mission areas, staff offices or agencies, not otherwise provided for by specific laws and regulations, and excluding the Official USDA Seal and Official USDA Symbol.

* * * * *

Signed in Washington, DC, on October 21, 2011.
Thomas J. Vilsack,
Secretary of Agriculture.

[FR Doc. 2011-27759 Filed 10-26-11; 8:45 am]

BILLING CODE 3411-N8-P